DEPARTMENT OF DEFENSE

Department of the Air Force

[ARY-220824A-JA]

Notice of Intent To Grant Joint Ownership With Exclusive License Agreement

AGENCY: Department of the Air Force, Department of Defense.

ACTION: Notice of intent.

SUMMARY: Pursuant to the Bayh-Dole Act and implementing regulations, the Department of the Air Force hereby gives notice of its intent to enter into a joint ownership with exclusive license agreement in the field of infrared electromagnetic radiation detection and/or novel photoconductive infrared detectors made with novel donor-acceptor conjugated polymers, where the polymer is attached/coated and applied to electrical circuits to The University of Southern Mississippi, a nonprofit having a place of business at 118 College Drive, Hattiesburg, MS 39406-0001.

DATES: Written objections must be filed no later than fifteen (15) calendar days after the date of publication of this Notice.

ADDRESSES: Submit written objections to Robert Barnes, AFRL/RYO, 2241 Avionics Cir., Wright-Patterson AFB, OH 45433; or Email: afrl.ry.orta@us.af.mil. Include Docket No. ARY-220824A-JA in the subject line of the message.

FOR FURTHER INFORMATION CONTACT: Robert Barnes, AFRL/RYO, 2241 Avionics Cir., Wright-Patterson AFB, OH 45433; 937-713-8511 or Email: afrl.ry.orta@us.af.mil.

Abstract of Patent Application

A photoconductive infrared detector comprising a substrate, an electrode geometry, and a layer of intrinsically conductive or photoconductive donor-acceptor conjugated polymer.

Intellectual Property

U.S. Application Serial No. 17/390,277, filed July 30, 2021 and PCT Application No. PCTUS2021-043986 by Jason D. Azoulay et al. and entitled Infrared Detection with Intrinsically Conductive Conjugated Polymers.

The Department of the Air Force may grant the prospective license unless a timely objection is received that sufficiently shows the grant of the license would be inconsistent with the Bayh-Dole Act or implementing regulations. A competing application for a patent license agreement, completed in compliance with 37 CFR 404.8 and received by the Air Force within the period for timely objections, will be treated as an objection and may be considered as an alternative to the proposed license.

Authority: 35 U.S.C. 209; 37 CFR 404.

Tommy W. Lee,
Acting Air Force Federal Register Liaison Officer.

[FR Doc. 2023-05008 Filed 3-14-23; 8:45 am]

BILLING CODE 5001-10-P